DEPARTMENT OF ENERGY

Bonneville Power Administration

McNary-John Day Transmission Line Project

AGENCY: Bonneville Power Administration (Bonneville), Department of Energy (DOE).

ACTION: Notice of intent to prepare an Environmental Impact Statement (EIS) and notice of floodplain and wetlands involvement.

SUMMARY: Bonneville intends to prepare an EIS on the construction, operation, and maintenance of a 75-mile-long 500-kilovolt transmission line in Benton and Klickitat Counties, Washington, and Umatilla and Sherman Counties, Oregon. The new line would start at Bonneville's McNary Substation in Oregon and would cross the Columbia River just north of the substation into Washington. The line would then proceed west for about 70 miles along the Columbia River. At the John Day Dam, the line would again cross the Columbia River into Oregon and terminate at Bonneville's John Day Substation. The new line would parallel existing transmission lines for the entire length. Bonneville has available right-of-way next to those lines; the new line would be within the available right-of-way wherever feasible. The proposed McNary-John Day line is needed to help move power from east to west. In accordance with DOE regulations for compliance with floodplain and wetlands environmental review requirements, Bonneville will prepare a floodplain and wetlands assessment as necessary to avoid or minimize potential harm to or within any affected floodplains and wetlands. The assessment will be included in the EIS being prepared for the proposed project in accordance with the National Environmental Policy Act.

DATES: Written comments are due to the address below no later than June 18, 2001. Comments may also be made at the EIS scoping meetings to be held on May 23 and 24, 2001, from 4 p.m. to 8 p.m. at the addresses below.

ADDRESSES: Send letters with comments and suggestions on the proposed scope of the Draft EIS, and requests to be placed on the project mailing list, to Bonneville Power Administration, Communications—KC-7, PO Box 12999, Portland, Oregon 97212. You may also call Bonneville's toll-free comment line at 1-800-622-4519, and leave a message (please include the name of this project); or send an e-mail to: comment@bpa.gov.

On Wednesday, May 23, 2001, a scoping meeting will be held from 4 p.m. to 8 p.m. at Paterson School, 51409 West Prior Road, Paterson, Washington. On Thursday, May 24, 2001, a scoping meeting will be held from 4 p.m. to 8 p.m. at Roosevelt School, 615 Chinook Avenue, Roosevelt, Washington. At these informal meetings, we will provide information about the project, including maps, and have several members of the project team available to answer questions and accept oral and written comments.

FOR FURTHER INFORMATION CONTACT: Lou Driessen, Project Manager, Bonneville Power Administration—TNP-3, PO Box 3621, Portland, Oregon, 97208-3621; toll-free telephone 1-800-282-3713; direct telephone 503-230-5525; or e-mail lcdriessen@bpa.gov. You may also contact Stacy Mason, Environmental Coordinator, Bonneville Power Administration—KEC-4, PO Box 3621, Portland, Oregon 97208-3621; toll-free telephone 1-800-282-3713; direct telephone 503-230-5455; or e-mail slmason@bpa.gov. Additional information can be found at Bonneville's web site: www.efw.bpa.gov.

SUPPLEMENTARY INFORMATION: Presently, the existing transmission lines between McNary and John Day substations are operating at capacity. These lines help move power from the east side of the Cascades to the west side, where there is a high need for electricity (cities along the I-5 corridor). Because the Northwest is short on power, there are many new proposals for facilities to generate new power. Some of these generation facilities are in the vicinity of the proposed transmission line. The new line would help insure that existing and newly generated power could move through the system.

Alternatives Proposed for Consideration. At this point the alternatives we are considering for evaluation in the EIS include alternative tower locations near the existing lines, and the alternative of not building the line (an alternative we always consider). Other alternatives may be identified through the scoping process.

Public Participation and Identification of Environmental Issues. The potential environmental issues identified for most transmission line projects include land use, cultural resources, visual, sensitive plants and animals, erosion/soils, wetlands, floodplains, and fish and water resources. Bonneville has established a 30-day scoping period during which affected landowners, concerned citizens, special interest groups, local governments, and any other interested parties are invited to comment on the scope of the proposed EIS. Scoping will help Bonneville ensure that a full range of issues related to this proposal is addressed in the EIS, and also will identify significant or potentially significant impacts that may result from the proposed project. When completed, the Draft EIS will be circulated for review and comment, and Bonneville will hold public meetings to hear comments. Bonneville will consider and respond in the Final EIS to comments received on the Draft EIS. The Final EIS is expected to be published in mid to late 2002. Bonneville's decision will be documented in a Record of Decision.

Issued in Portland, Oregon, on May 8, 2001.
Stephen J. Wright,
Administrator and Chief Executive Officer.

[FR Doc. 01-12332 Filed 5-15-01; 8:45 am]

BILLING CODE 6450-01-P